SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, Fax: 202-395-6974.

(SSA), Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Certification of Period of Temporary Institutionalization and Need to Maintain Home—20 CFR 416.212(b)(1)—0960-0516. SSA is required by law to collect the information necessary to establish eligibility for continued Supplemental Security Income (SSI) benefits for temporarily institutionalized individuals. Sections 1611(e)(1)(G)&(H) of the Social Security Act require the Commissioner to establish procedures for determining that a physician has certified that the period of confinement is not likely to exceed 3 months, and for determining that the recipient needs to continue to maintain and provide for the expense of a home or living arrangement.

Type of Request: Extension of an OMB-approved information collection.

Number of Respondents: 60,000.

Frequency of Response: 1.

Average Burden Per Response: 5 minutes.

Estimated Annual Burden: 5,000 hours.

2. Representative Payee Report—20 CFR 404.2035, 404.2065, 416.635, and 416.665—0960-0068. SSA uses forms SSA-623 and SSA-6230 to determine if (1) payments sent to individual representative payees have been used for Social Security beneficiaries' current maintenance and personal needs and (2) the representative payee continues to be a capable representative concerned with the beneficiary's welfare. The respondents are individual representative payees for recipients of Social Security benefits.

Type of Request: Revision to an OMB-approved information collection

Number of Respondents: 5,500,000.

Frequency of Response: 1.

Average Burden Per Response: 15 minutes.

Estimated Annual Burden: 1,375,000 hours.

3. Representative Payee Report—20 CFR 404.265 and 416.665—0960-0691. Form SSA-6234 is used to collect information from organizational representative payees, such as institutions, to determine if (1) payments sent to these representative payees have been used for Social Security beneficiaries' current maintenance and personal needs; (2) the representative payees continue to be capable representatives concerned with beneficiaries' welfare; and (3) the representative payee organization is charging the beneficiary a fee, and if so, the amount of the fee. The respondents are organizational representative payees.

Type of Request: Revision of an OMB-approved collection.

Number of Respondents: 750,000.

Frequency of Response: 1.

Average Burden Per Response: 15 minutes.

Estimated Annual Burden: 187,500.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Annual Earnings Test Direct Mail Follow-Up Program Notices—20 CFR 404.452-404.455—0960-0369. The Mid-Year Mailer (MYM) is used to ensure that Retirement Survivors Insurance (RSI) payments are correct. Beneficiaries under full retirement age (FRA) use Forms SSA-L9778, L9779, and L9781 to update their current year estimate and their estimate for the following year. MYM Forms SSA-L9784 and L9785 are designed to request earnings estimates in the year of FRA for the period prior to the month of FRA. Only one individually tailored Form is sent per respondent. Respondents are RSI beneficiaries with earnings over the exempt amount.

Type of Request: Extension of an OMB-approved information collection.

Number of Respondents: 225,000.

Frequency of Response: 1.

Average Burden Per Response: 10 minutes.

Estimated Annual Burden: 37,500 hours.

2. Internet Request for Replacement of Forms SSA-1099/SSA-1042S—20 CFR 401.45—0960-0583. The information collected will be used by SSA to verify identity and to provide replacement copies of Forms SSA-1099/SSA-1042S needed to prepare Federal tax returns. This internet option to request a replacement SSA-1099/SSA-1042S will eliminate the need for a phone call to the national 800 number or a visit to a local field office. The respondents are beneficiaries who are requesting a replacement SSA-1099/SSA-1042S.

Type of Request: Extension of an OMB-approved information collection.

Number of Respondents: 21,000.

Frequency of Response: 1.

Average Burden Per Response: 1.5 minutes.

Estimated Annual Burden: 525 hours.

3. SSA Survey of Online Services Internet Panel—0960-NEW. SSA plans to conduct an online panel survey with pre-retirement individuals. The survey will ask a number of questions about participants' experiences with SSA's Internet-based services. The results of the survey will be used to assess awareness of SSA Internet-based services and to identify ways to increase awareness of these services in the pre-retirement population. The respondents are individuals ages 50-67 who are employed and who have agreed to be contacted via e-maill for online surveys.

Type of Request: New information collection.

Number of Respondents: 1,000.

Frequency of Response: 1.

Average Burden Per Response: 15 minutes.

Estimated Annual Burden: 250 hours.

4. Medicare Part B Income-Related Premium—Life-Changing Event Form—0960-NEW. As per the Medicare Modernization Act of 2003, beginning in January 2007 selected beneficiaries of Medicare Part B insurance will have to pay a new income-related monthly adjustment amount (IRMAA). The amount of the IRMAA is based on income tax return data obtained from the Internal Revenue Service. If affected Medicare Part B beneficiaries believe that more recent tax data should be used because a life-changing event has occurred that significantly reduces their income, they can report these changes to SSA and ask for a new initial determination of their IRMAA. SSA believes that most respondents will go to a field office and do this in person; however, some respondents may choose to contact SSA by mail and they can use form SSA-44, the Medicare Part B Income-Related Premium—Life-Changing Event form. The respondents are Medicare Part B beneficiaries who want SSA to use more recent income data in determining the amount of their IRMAA.

Type of Request: New information collection.

Method of information collection | Number of respondents | Frequency of response | Average burden per response (minutes) | Estimated annual burden (hours)
Personal Interview | 68,490 | 1 | 60 | 68,490
Form | 7,610 | 1 | 90 | 11,415
Total | 76,100 |  |  | 79,905

Total Burden Hours: 79,905 hours.

Dated: September 26, 2006.
Elizabeth A. Davidson,
Reports Clearance Officer, Social Security Administration.

[FR Doc. E6-16171 Filed 9-29-06; 8:45 am]

BILLING CODE 4191-02-P